SMALL BUSINESS ADMINISTRATION

[Disaster Declaration # 10137 and # 10138]

Florida Disaster Number FL-00005

AGENCY: U.S. Small Business Administration.

ACTION: Amendment 4.

SUMMARY: This is an amendment of the Presidential declaration of a major disaster for the State of Florida (FEMA-1595-DR), dated 07/10/2005.

Incident: Hurricane Dennis.

Incident Period: 07/07/2005 and continuing through 07/20/2005.

Effective Date: 08/31/2005.

Physical Loan Application Deadline Date: 09/08/2005.

EIDL Loan Application Deadline Date: 04/10/2006.

ADDRESSES: Submit completed loan applications to: U.S. Small Business Administration, Disaster Area Office 3, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for the State of Florida, dated 07/10/2005, is hereby amended to re-establish the incident period for this disaster as beginning 07/07/2005 and continuing through 07/20/2005.

All other information in the original declaration remains unchanged.

(Catalog of Federal Domestic Assistance Numbers 59002 and 59008)
Herbert L. Mitchell,
Associate Administrator for Disaster Assistance.

[FR Doc. 05-18437 Filed 9-15-05; 8:45 am]

BILLING CODE 8025-01-P